DEPARTMENT OF LABOR

Employment and Training Administration

[TA-W-82,937; TA-W-82,937A; TA-W-82,937B; TA-W-82,937C; TA-W-82,937D; TA-W-82,937E; TA-W-82,937F; TA-W-82,937G; TA-W-82,937H; TA-W-82,937I]

Cambia Health Solutions, Inc., Claims Department and Membership Team, Portland, Oregon; Cambia Health Solutions, Inc., Claims Department and Membership Team, Lewiston, Idaho; Cambia Health Solutions, Inc., Claims Department and Sales Operations, Medford, Oregon; Cambia Health Solutions, Inc., Claims Department and Sales Operations, Salt Lake City, Utah; Cambia Health Solutions, Inc., Claims Department, Membership Team and Sales Operations, Seattle, Washington; Cambia Health Solutions, Inc., Claims Department and Membership Team, Tacoma, Washington; Cambia Health Solutions, Inc., Membership Team, Burlington, Oregon; Cambia Health Solutions, Inc., Sales Operations, Bend, Oregon; Cambia Health Solutions, Inc., Sales Operations, Boise, Idaho; Cambia Health Solutions, Inc., Sales Operations, Spokane, Washington; Amended Certification Regarding Eligibility To Apply for Worker Adjustment Assistance

In accordance with Section 223 of the Trade Act of 1974, as amended (“Act”), 19 U.S.C. 2273, the Department of Labor issued a Certification of Eligibility to Apply for Worker Adjustment Assistance on August 7, 2013, applicable to workers from Cambia Health Solutions, Inc, Claims Department, Portland, Oregon (TA-W-82,937), Lewiston, Idaho (TA-W-82,937A), Medford, Oregon (TA-W-82,937B), Salt Lake City, Utah (TA-W-82,937C), Seattle, Washington (TA-W-82,937D), and Tacoma, Washington (TA-W-82,937E). The Department's Notice of Determination was published in the Federal Register on August 27, 2013 (78 FR 52976).

At the request of a Company Official, the Department reviewed the certification for workers of the subject firm. The workers' firm is engaged in the supply of claims processing services.

The investigation confirmed that worker separations in the Membership Team and Sales Operations at ten locations are attributable to the acquisition of services from a foreign country that was the basis of the original certification. The worker group includes remote workers in Washington State reporting to the Lewiston, Idaho location (TA-W-82,937A).

Based on these findings, the Department is amending this certification to include workers in the Membership Team and Sales Operations.

The amended notice applicable to TA-W-82,937 is hereby issued as follows:

All workers of Cambia Health Solutions, Inc., Claims Department and Membership Team, Portland, Oregon (TA-W-82,937), Cambia Health Solutions, Inc., Claims Department and Membership Team, Lewiston, Idaho (TA-W-82,937A), Cambia Health Solutions, Inc., Claims Department and Sales Operations, Medford, Oregon (TA-W-82,937B), Cambia Health Solutions, Inc., Claims Department and Sales Operations, Salt Lake City, Utah (TA-W-82,937C), Cambia Health Solutions, Inc., Claims Department, Membership Team and Sales Operations, Seattle, Washington (TA-W-82,937D), and Cambia Health Solutions, Inc., Claims Department and Membership Team, Tacoma, Washington (TA-W-82,937E), Cambia Health Solutions, Inc., Membership Team, Burlington, Oregon (TA-W-82,937F), Cambia Health Solutions, Inc., Sales Operations, Bend, Oregon (TA-W-82,937G), Cambia Health Solutions, Inc., Sales Operations, Boise, Idaho (TA-W-82,937H), and Cambia Health Solutions, Inc., Sales Operations, Spokane, Washington (TA-W-82,937I), who became totally or partially separated from employment on or after July 18, 2012 through August 7, 2015, and all workers in the group threatened with total or partial separation from employment on the date of certification through August 7, 2015, are eligible to apply for adjustment assistance under Chapter 2 of Title II of the Trade Act of 1974, as amended.

Signed in Washington, DC, this 21st day of May, 2015.
Michael W. Jaffe,
Certifying Officer, Office of Trade Adjustment Assistance.

[FR Doc. 2015-15060 Filed 6-18-15; 8:45 am]

BILLING CODE 4510-FN-P